DEPARTMENT OF LABOR

Wage and Hour Division

Notice of Approved Agency Information Collection; Information Collection: Records To Be Kept by Employers—Fair Labor Standards Act

ACTION: Notice.

SUMMARY: In accordance with the Paperwork Reduction Act (PRA), the Wage and Hour Division (WHD) is providing notice to the public that the WHD sponsored information collection request (ICR) titled “Records to be Kept by Employers—Fair Labor Standards Act,” has been approved by the Office of Management and Budget (OMB). WHD is notifying the public that the information collection has been revised and extended effective immediately through May 31, 2027.

DATES: The OMB approval of the revision of this information collection is effective immediately with an expiration date of May 31, 2027.

FOR FURTHER INFORMATION CONTACT: Robert Waterman, Division of Regulations, Legislation, and Interpretation, Wage and Hour, U.S. Department of Labor, Room S-3502, 200 Constitution Avenue NW, Washington, DC 20210; telephone: (202) 693-0406 (this is not a toll-free number) or by sending an email to WHDPRAComments@dol.gov. Alternative formats are available upon request by calling 1-866-487-9243. If you are deaf, hard of hearing, or have a speech disability, please dial 7-1-1 to access telecommunications relay services.

SUPPLEMENTARY INFORMATION: On September 8, 2023, consistent with its statutory authority to define and delimit the EAP exemption, the Department published a Notice of Proposed Rulemaking (NPRM) to revise the part 541 regulations (88 FR 62152). At the time, the Department invited public comment for the Information Collection “Records to be Kept by Employers—Fair Labor Standards Act” as this collection (1235-0018) was impacted by proposed burden increases related to the increase in the number of workers subject to the Department's recordkeeping requirements should a final rule be published. The Department of Labor submitted a revision to the information collection under OMB Control Number 1235-0018 in conjunction with a final rule published in the Federal Register on April 26, 2024 (89 FR 32842). The final rule is titled “Defining and Delimiting the Exemptions for Executive, Administrative, Professional, Outside Sales, and Computer Employees,” RIN 1235-AA39. OMB issued a Notice of Action (NOA) on May 29, 2024, approving the collection and extending the expiration of the collection to May 31, 2027, under OMB Control Number 1235-0018.

Section (k) of 5 CFR 1320.11, “Clearance of Collections of Information in Proposed Rules” states, “After receipt of notification of OMB's approval, instruction to make a substantive or material change to, disapproval of a collection of information, or failure to act, the agency shall publish a notice in the Federal Register to inform the public of OMB's decision.” This notice fulfills the Department's obligation to notify the public of OMB's approval of the information collection request.

Daniel Navarrete,
Acting Director, Division of Regulations, Legislation and Interpretation.

[FR Doc. 2024-12375 Filed 6-5-24; 8:45 am]

BILLING CODE 4510-27-P